FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011733-028.

Title: Common Ocean Carrier Platform Agreement.

Parties: A.P. Moller-Maersk A/S; American President Lines, Ltd., APL Co., PTE Ltd.; CMA CGM; Hamburg-Süd; Hapag-Lloyd AG; Mediterranean Shipping Company S.A.; and United Arab Shipping Company (S.A.G.) as shareholder parties, and Alianca Navegacao e Logistica Ltda.; China Shipping Container Lines Company Limited; Compania Sud Americana de Vapores, S.A.; Companhia Libra de Navegacao; COSCO Container Lines Co., Ltd.; Emirates Shipping Lines; Evergreen Line Joint Service Agreement; Gold Star Line, Ltd.; Hanjin Shipping Co., Ltd.; Hyundai Merchant Marine Co. Ltd; Kawasaki Kisen Kaisha, Ltd.; MISC Berhad; Mitsui O.S.K. Lines Ltd.; Nippon Yusen Kaisha; Safmarine Container Lines N.V.; Norasia Container Lines Limited; Tasman Orient Line C.V. and Zim Integrated Shipping as non-shareholder parties.

Filing Party: Wayne R. Rohde, Esq.; Sher & Blackwell LLP; 1850 M Street, NW.; Suite 900; Washington, DC 20036.

Synopsis: The amendment adds American President Lines, Ltd. and APL Co. PTE Ltd. as non-shareholder parties to the agreement.

Agreement No.: 012070-001.

Title: CSCL/ELJSA Vessel Sharing Agreement—Asia and Mexico, US East Coast Service.

Parties: China Shipping Container Lines Co., Ltd.; China Shipping Container Lines (Hong Kong) Co., Ltd.; and Evergreen Lines Joint Service Agreement.

Filing Party: Tara L. Leiter, Esq.; Blank Rome, LLP; Watergate; 600 New Hampshire Avenue, NW.; Washington, DC 20037.

Synopsis: The amendment increases the number of vessels to be deployed under the agreement and revises the amount of space allocated to each party.

Agreement No.: 012096.

Title: CSCL/ELJSA Vessel Sharing Agreement—Asia and US West Coast Service.

Parties: China Shipping Container Lines Co., Ltd.; China Shipping Container Lines (Hong Kong) Co., Ltd.; and Evergreen Lines Joint Service Agreement.

Filing Party: Tara L. Leiter, Esq.; Blank Rome, LLP; Watergate; 600 New Hampshire Avenue, NW.; Washington, DC 20037.

Synopsis: The agreement authorizes the parties to share vessel space between United States West Coast ports and ports in Asia.

Agreement No.: 012097.

Title: Mitsui O.S.K. Lines/Kawasaki Kisen Kaisha U.S. Atlantic & Gulf/South America Space Charter Agreement.

Parties: Kawasaki Kisen Kaisha, Ltd. and Mitsui O.S.K. Lines, Ltd.

Filing Parties: John P. Meade, Esq.; Vice-President; K-Line America, Inc.; 6009 Bethlehem Road; Preston, MD 21655.

Synopsis: The agreement authorizes the parties to charter space in the trades between U.S. Atlantic and Gulf Coast ports and ports in Mexico, Guatemala, Nicaragua, Honduras, Costa Rica, Panama, Colombia, Venezuela, Brazil, Argentina, Uruguay, Paraguay, Chile, and Peru.

Dated: May 28, 2010.
By Order of the Federal Maritime Commission.
Rachel E. Dickon,
Assistant Secretary.

[FR Doc. 2010-13409 Filed 6-2-10; 8:45 am]

BILLING CODE 6730-01-P